DEPARTMENT OF THE TREASURY

Office of the Comptroller of the Currency

Federal Reserve System Federal Deposit Insurance Corporation

Agency Information Collection Activities: Submission for OMB Review; Joint Comment Request

AGENCIES: Office of the Comptroller of the Currency (OCC), Treasury; Board of Governors of the Federal Reserve System (Board); and Federal Deposit Insurance Corporation (FDIC).

ACTION: Submission for OMB Review; Joint Comment Request.

SUMMARY: In accordance with the requirements of the Paperwork Reduction Act of 1995 (44 U.S.C. chapter 35), the OCC, the Board, and the FDIC (collectively, the “agencies”) hereby give notice that they plan to submit to the Office of Management and Budget (OMB) requests for review of the information collection systems described below. The Agencies may not conduct or sponsor, and the respondent is not required to respond to, an information collection that has been extended, revised, or implemented on or after October 1, 1995, unless it displays a currently valid OMB control number.

On September 3, 1999, the agencies, under the auspices of the Federal Financial Institutions Examination Council (FFIEC), requested public comment for 60 days on the extension, without revision, of the currently approved information collections: the Country Exposure Report (FFIEC 009) and the Country Exposure Information Report (FFIEC 009a). However, minor clarifications were proposed to the FFIEC 009 instructions.

DATES: Comments must be submitted on or before April 3, 2000.

ADDRESSES: Interested parties are invited to submit written comments to any or all of the agencies. All comments should refer to the OMB control number(s) and will be shared among the agencies.

OCC: Written comments should be submitted to the Communications Division, Office of the Comptroller of the Currency, 250 E Street, SW, Third Floor, Attention: 1557-0100 (FFIEC 009 and 009a), Washington, DC 20219. In addition, comments may be sent by facsimile transmission to (202) 874-5274, or by electronic mail to regs.comments@occ.treas.gov. Comments will be available for inspection and photocopying at the OCC's Public Reference Room, 250 E Street, SW, Washington, DC 20219 between 9 a.m. and 5 p.m. on business days. Appointments for inspection of comments may be made by calling (202) 874-5043.

Board: Written comments should be addressed to Jennifer J. Johnson, Secretary, Board of Governors of the Federal Reserve System, 20th and C Streets, NW, Washington, DC 20551, or delivered to the Board's mail room between 8:45 a.m. and 5:15 p.m., and to the security control room outside of those hours. Both the mail room and the security control room are accessible from the courtyard entrance on 20th Street between Constitution Avenue and C Street, NW. Comments received may be inspected in room M-P-500 between 9 a.m. and 5 p.m., except as provided in section 261.12 of the Board's Rules Regarding Availability of Information, 12 CFR 261.12(a).

FDIC: Written comments should be addressed to Robert E. Feldman, Executive Secretary, Attention: Comments/OES, Federal Deposit Insurance Corporation, 550 17th Street, NW, Washington, DC 20429. Comments may be hand-delivered to the guard station at the rear of the 550 17th Street Building (located on F Street), on business days between 7 a.m. and 5 p.m. [FAX number (202) 898-3838; Internet address: comments@fdic.gov]. Comments may be inspected and photocopied in the FDIC Public Information Center, Room 100, 801 17th Street, NW, Washington, DC, between 9 a.m. and 4:30 p.m. on business days.

A copy of the comments may also be submitted to the OMB desk officer for the agencies: Alexander T. Hunt, Office of Information and Regulatory Affairs, Office of Management and Budget, New Executive Office Building, Room 3208, Washington, DC 20503.

FOR FURTHER INFORMATION CONTACT: Requests for additional information or a copy of an agency's submission may be obtained by contacting:

OCC: Jessie Dunaway, OCC Clearance Officer, or Camille Dixon, (202) 874-5090, Legislative and Regulatory Activities Division, Office of the Comptroller of the Currency, 250 E Street, SW, Washington, DC 20219.

Board: Mary M. West, Chief, Financial Reports Section, (202) 452-3829, Division of Research and Statistics, Board of Governors of the Federal Reserve System, 20th and C Streets, NW, Washington, DC 20551. Telecommunications Device for the Deaf (TDD) users may contact Diane Jenkins, (202) 452-3544, Board of Governors of the Federal Reserve System, 20th and C Streets, N.W., Washington, D.C. 20551.

FDIC: Steven F. Hanft, FDIC Clearance Officer, (202) 898-3907, Office of the Executive Secretary, Federal Deposit Insurance Corporation, 550 17th Street NW, Washington, DC 20429.

SUPPLEMENTARY INFORMATION:

Proposal To Extend for Three Years With Minor Instructional Clarifications the Following Currently Approved Collections of Information

Report Title: Country Exposure Report/Country Exposure Information Report.

Form Number: FFIEC 009 and FFIEC 009a.

Frequency of Response: Quarterly.

Affected Public: Business or other for profit.

For OCC:

OMB Number: 1557-0100.

Estimated Number of Respondents: 50 (FFIEC 009); 50 (FFIEC 009a).

Estimated Average Time per Response: 30 burden hours (FFIEC 009); 5.25 burden hours (FFIEC 009a).

Estimated Total Annual Burden: 6,000 burden hours (FFIEC 009); 1,050 burden hours (FFIEC 009a).

For Board:

OMB Number: 7100-0035.

Estimated Number of Respondents: 39 (FFIEC 009); 16 (FFIEC 009a).

Estimated Average Time per Response: 30 burden hours (FFIEC 009); 5.25 burden hours (FFIEC 009a).

Total Annual Burden: 4,680 burden hours (FFIEC 009); 336 burden hours (FFIEC 009a).

For FDIC:

OMB Number: 3064-0017.

Estimated Number of Respondents: 35 (FFIEC 009); 35 (FFIEC 009a).

Estimated Average Time per Response: 30 burden hours (FFIEC 009); 5.25 burden hours (FFIEC 009a).

Estimated Total Annual Burden: 4,200 burden hours (FFIEC 009); 735 burden hours (FFIEC 009a).

General Description of Reports

This information collection (FFIEC 009 and FFIEC 009a) is mandatory: 12 U.S.C. 161 and 1817 (for national banks); 12 U.S.C. 248(a), 1844(c), and 3906 (for state member banks and bank holding companies); and 12 U.S.C. 1817 and 1820 (for insured state nonmember commercial and savings banks). The FFIEC 009 information collection is given confidential treatment (5 U.S.C. 552(b)(4) and (b)(8)). The FFIEC 009a information collection is not given confidential treatment. Small businesses (i.e., small banks) are not affected.

Abstract

The Country Exposure Report (FFIEC 009) is filed quarterly with the agencies and provides information on international claims of U.S. banks and bank holding companies that is used for supervisory and analytical purposes. The information is used to monitor country exposure of banks to determine the degree of risk in their portfolios and the possible impact on U.S. banks of adverse developments in particular countries. The Country Exposure Information Report (FFIEC 009a) is a supplement to the FFIEC 009 and provides publicly available information on material foreign country exposures (all exposures to a country in excess of one percent of total assets or 20 percent of capital, whichever is less) of U.S. banks and bank holding companies that file the FFIEC 009 report. Reporting institutions must also furnish a list of countries in which they have lending exposures above 0.75 percent of total assets or 15 percent of total capital, whichever is less. No changes are proposed to the FFIEC 009 reporting forms or the FFIEC 009a reporting forms and instructions. However, minor clarifications are proposed to the FFIEC 009 instructions.

Current actions: The agencies received one comment letter in response to the notice published in the Federal Register on September 3, 1999 (64 FR 48453) requesting public comment on the extension without revision, with minor clarification to the FFIEC 009 instructions for the treatment of credit derivatives. The commenter supported an instructional clarification for the treatment of credit derivatives and recommended specific language. In addition, the commenter recommended the agencies clarify the treatment for securities reverse repurchase agreements (resale agreements) in these information collections.

After consideration of the comment letter, the agencies decided to clarify the treatment of credit derivatives in the instructions effective as of the June 30, 2000, report date. However, the agencies determined that further study of the impact of alternative treatments for resale agreements on these information collections is warranted. The agencies will reconsider the need for a clarification on the treatment of resale agreements after the issue has been studied further.

Request for Comment

Comments are invited on:

a. Whether the information collections are necessary for the proper performance of the agencies' functions, including whether the information has practical utility;

b. The accuracy of the agencies' estimates of the burden of the information collections, including the validity of the methodology and assumptions used;

c. Ways to enhance the quality, utility, and clarity of the information to be collected;

d. Ways to minimize the burden of information collections on respondents, including through the use of automated collection techniques or other forms of information technology; and

e. Estimates of capital or start up costs and costs of operation, maintenance, and purchase of services to provide information.

Comments submitted in response to this notice will be shared among the agencies. All comments will become a matter of public record. Written comments should address the accuracy of the burden estimates and ways to minimize burden including the use of automated collection techniques or the use of other forms of information technology as well as other relevant aspects of the information collection request.

Dated: February 23, 2000.
Mark J Tenhundfeld,
Assistant Director, Legislative and Regulatory Activities Division, Office of the Comptroller of the Currency.
Board of Governors of the Federal Reserve System, February 28, 2000.
Jennifer J. Johnson,
Secretary of the Board.

Dated at Washington, DC, this 16th day of February, 2000.
Federal Deposit Insurance Corporation.
James D. LaPierre,
Deputy Executive Secretary.

[FR Doc. 00-5129 Filed 3-2-00; 8:45 am]

BILLING CODE 4810-33-P; 6210-01-P; 6714-01-P